DEPARTMENT OF DEFENSE

Department of the Navy

32 CFR Part 734

RIN 0703-AA67

Garnishment of Pay of Naval Military and Civilian Personnel for Collection of Child Support and Alimony

AGENCY: Department of the Navy, DOD.

ACTION: Final rule.

SUMMARY: The Department of the Navy is updating its regulation on garnishment of pay of naval military and civilian personnel for collection of child support and alimony. This amendment reflects changes to the Marine Corps provision on receipt of legal process and other administrative changes.

DATES: Effective October 19, 2000.

ADDRESSES: Office of the Judge Advocate General (Code 13), 1322 Patterson Ave. SE., Suite 3000, Washington Navy Yard, DC 20374-5066.

FOR FURTHER INFORMATION CONTACT: Lieutenant Commander James L. Roth, JAGC, U.S. Navy, Head, Regulations and Legislation Branch, Administrative Law Division, Office of the Judge Advocate General (Code 13), 1322 Patterson Ave. SE., Suite 3000, Washington Navy Yard, DC 20374-5066, (703)604-8200.

SUPPLEMENTARY INFORMATION: Pursuant to the authority cited below, the Department of the Navy amends 32 CFR Part 734. This amendment updates information on legal process brought against a Marine Corps member for the enforcement of a legal obligation to provide child support or alimony payments. Additionally, administrative changes were made to change reference to “Marine Corps Manual” to “MCO 5800.16A, Marine Corps Manual on Legal Administration (LEGADMINMAN)” on order to more accurately describe the manual. It has been determined that invitation of public comment on this amendment would be impracticable and unnecessary, and it is therefore not required under the public rulemaking provisions of 32 CFR Part 336 or Secretary of the Navy Instruction 5720.45. Interested persons, however, are invited to comment in writing on this amendment. All written comments received will be considered in making subsequent amendments or revisions of 32 CFR Part 734, or the instructions on which they are based. Changes may be initiated on the basis of comments received. Written comments should be addressed to Lieutenant Commander James L. Roth, JAGC, U.S. Navy, Head, Regulations and Legislation Branch, Administrative Law Division, Office of the Judge Advocate General (Code 13), 1322 Patterson Ave. SE., Suite 3000, Washington Navy Yard, DC 20374-5066. It has been determined that this final rule is not a “significant regulatory action” as defined in Executive Order 12866.

Executive Order 13132, Federalism

It has been determined that this rule does not have sufficient Federalism implications to warrant the preparation of a Federalism Assessment. The provisions contained in this rule will have little or no direct effect on States or local governments.

Regulatory Flexibility Act

This rule will not have a significant economic impact on a substantial number of small entities for purposes of the Regulatory Flexibility Act (5 U.S.C. Chapter 6).

Paperwork Reduction Act

This rule does not impose collection of information requirements for purposes of the Paperwork Reduction Act (44 U.S.C. Chapter 35, 5 CFR Part 1320).

List of Subjects in 32 CFR Part 734

Alimony, Child support, Military personnel.

For the reasons set forth in the preamble, amend part 734 of title 32 of the Code of Federal Regulations as follows:

PART 734—GARNISHMENT OF PAY OF NAVAL MILITARY AND CIVILIAN PERSONNEL FOR COLLECTION OF CHILD SUPPORT AND ALIMONY

1. The authority citation for 32 CFR part 734 continues to read as follows:

Authority: 42 U.S.C. 659 (Social Security Act, sec. 459 added by Pub. L. 93-647, part B, sec. 101(a), 88 Stat. 2357, as amended by the Tax Reform and Simplification Act of 1977, Pub. L. 95-30, title V, sec. 502, 91 Stat. 157).

2. In § 734.3, revise paragraph (a)(2) to read as follows:

§ 734.3 Service of Process.

(a) * * *

(2) Marine Corps members. 42 U.S.C. 659 provides that pay of a servicemember, active duty or retired, shall be subject to legal process brought for the enforcement against such member of legal obligations to provide child support or alimony payments. “Legal process” means any writ, order, summons, or other similar process in the nature of garnishment. Upon receipt of such legal process, it will be forwarded directly to: Defense Finance and Accounting Service, Cleveland Center, Garnishment Operations Directorate (DFAS-CL/L), P.O. Box 998002, Cleveland, Ohio 44199-8002. The letter of transmittal will state the date of service and method by which service was made. Detailed instructions for disbursing officers and commanding officers are contained in DFAS-KC 7220.31-R, chapter 7.

* * * * *

§§ 734.4 and 734.5 [Amended]

3. In 32 CFR part 734, remove the words “Marine Corps Manual” and add, in their place, the words “MCO 5800.16A, Marine Corps Manual for Legal Administration (LEGADMINMAN)” in the following places:

a. Section 734.4(a)(3).

b. Section 734.5.

Dated: October 10, 2000.
C.G. Carlson,
Major, U.S. Marine Corps, Alternate Federal Register Liaison Officer.

[FR Doc. 00-26791 Filed 10-18-00; 8:45 am]

BILLING CODE 3810-FF-U